DEPARTMENT OF HEALTH AND HUMAN SERVICES

Secretary's Advisory Committee on Human Research Protections

AGENCY: Office of Public Health and Science, Office of the Secretary, HHS.

ACTION: Notice.

SUMMARY: Pursuant to Section 10(a) of the Federal Advisory Committee Act, U.S.C. Appendix 2, notice is hereby given that the Secretary's Advisory Committee on Human Research Protections (SACHRP), will hold its eleventh meeting. The meeting will be open to the public. Due to unanticipated issues during preparation for the November meeting of SACHRP, this notice will not meet the 15-day requirement for publication in the Federal Register.

DATES: The meeting will be held on Thursday, November 2, 2006 from 8:30 a.m. until 3 p.m. and Friday, November 3, 2006 from 8:30 a.m. until 12:30 p.m.

ADDRESSES: The Sheraton National Hotel, 900 South Orme Street, Arlington, VA, 22204. Phone: (703) 521-1900.

FOR FURTHER INFORMATION CONTACT: Bernard Schwetz, D.V.M., Ph.D., Director, Office for Human Research Protections (OHRP), or Catherine Slatinshek, Executive Director, Secretary's Advisory Committee on Human Research Protections; Department of Health and Human Services, 1101 Wootton Parkway, Suite 200, Rockville, MD 20852; (240) 453-8139; fax: (240) 453-6909; e-mail address: sachrp@osophs.dhhs.gov.

SUPPLEMENTARY INFORMATION: Under the authority of 42 U.S.C. 217a, Section 222 of the Public Health Service Act, as amended, SACHRP was established to provide expert advice and recommendations to the Secretary of Health and Human Services and the Assistant Secretary for Health on issues and topics pertaining to or associated with the protection of human research subjects.

On November 2, 2006, SACHRP will receive and discuss updated information and a report from the Subpart A Subcommittee and issues involving the application of subpart A of 45 CFR part 46 in the current research environment. This subcommittee was established by SACHRP at its October 4-5, 2004 meeting.

On November 3, 2006, the Committee will discuss future topics and issues that will be considered by the Subcommittee on Research Involving Individuals with Impaired Decision-Making Capacity. This subcommittee was established by SACHRP at its July 31-August 1, 2006 meeting. In addition, the Committee will hear presentations and invite discussions from several representatives on a panel on issues related to research involving subjects with impaired decision-making capacity.

Public attendance at the meeting is limited to space available. Individuals who plan to attend the meeting and need special assistance, such as sign language interpretation or other reasonable accommodations, should notify the designated contact persons. Members of the public will have the opportunity to provide comments on both days of the meeting. Public comment will be limited to five minutes per speaker. Any members of the public who wish to have printed materials distributed to SACHRP members for this scheduled meeting should submit materials to the Executive Director, SACHRP, prior to the close of business Friday, October 27, 2006. Information about SACHRP and the draft meeting agenda will be posted on the SACHRP Web site at: http://www.hhs.gov/ohrp/sachrp/index.html.

Dated: October 18, 2006.
Catherine Slatinshek,
Executive Director, Secretary's Advisory Committee on Human Research Protections.

[FR Doc. E6-17743 Filed 10-23-06; 8:45 am]

BILLING CODE 4150-36-P